DEPARTMENT OF HEALTH AND HUMAN SERVICES

National Institutes of Health

Eunice Kennedy Shriver National Institute of Child Health & Human; Notice of Meeting

Pursuant to section 10(a) of the Federal Advisory Committee Act, as amended, notice is hereby given of a meeting of the National Advisory Board on Medical Rehabilitation Research.

The meeting will be open to the public via NIH Videocast. Individuals who need special assistance, such as sign language interpretation or other reasonable accommodations, should notify the Contact Person listed below in advance of the meeting.

Name of Committee: National Advisory Board on Medical Rehabilitation Research.

Date: May 4, 2020.

Time: May 4, 2020, 10:00 a.m. to 2:00 p.m. (EST).

Agenda: NICHD Director's report; NCMRR Director's report; Connecting with Our Public Communities; Updates on the NIH Rehabilitation Research Conference and NIH Rehabilitation Research Plan; Scientific presentation on Data Science in Rehabilitation; Agenda Planning for the next Board meeting.

Place: NICHD Offices, 6710B Rockledge Drive, Rooms 1425/1427, Bethesda, MD 20892 (Virtual Meeting).

Contact Person: Ralph M. Nitkin, Ph.D., Deputy Director, National Center for Medical Rehabilitation Research (NCMRR), Eunice Kennedy Shriver National Institute of Child Health and Human Development, NIH, DHHS, 6710B Rockledge Drive, Room 2116, Bethesda, MD 20892-7002, (301) 402-4206, RN21e@nih.gov.

Please select the link below to access the meeting via NIH Videocast the day of the meeting: https://videocast.nih.gov/live.asp?live=36020.

Information is also available on the Institute's/Center's home page: http://www.nichd.nih.gov/about/advisory/nabmrr/Pages/index.aspx where the current roster and minutes from past meetings are posted.

(Catalogue of Federal Domestic Assistance Program No. 93.865, Research for Mothers and Children; 93.929, Center for Medical Rehabilitation Research, National Institutes of Health, HHS)

Dated: April 10, 2020.
Ronald J. Livingston, Jr.,
Program Analyst, Office of Federal Advisory Committee Policy.

[FR Doc. 2020-07985 Filed 4-15-20; 8:45 am]

BILLING CODE 4140-01-P